MORRIS K. UDALL SCHOLARSHIP AND EXCELLENCE IN NATIONAL ENVIRONMENTAL POLICY FOUNDATION

Sunshine Act Meetings

Time and Date: 9 a.m. to 12 p.m., Friday, April 11, 2008.

Place: The offices of the Morris K. Udall Scholarship and Excellence in National Environmental Policy Foundation, 130 South Scott Avenue, Tucson, AZ 85701.

Status: This meeting will be open to the public, unless it is necessary for the Board to consider items in executive session.

Matters To Be Considered: (1) A report on the U.S. Institute for Environmental Conflict Resolution; (2) A report from the Udall Center for Studies in Public Policy; (3) A report on the Native Nations Institute; (4) Program Reports; and (5) A Report from the Management Committee.

Portions Open to the Public: All sessions with the exception of the session listed below.

Portions Closed to the Public: Executive session.

FOR FURTHER INFORMATION CONTACT: Ellen K. Wheeler, Executive Director, 130 South Scott Avenue, Tucson, AZ 85701, (520) 901-8500.

Dated: March 20, 2008.
Ellen K. Wheeler.
Executive Director, Morris K. Udall Scholarship and Excellence in National Environmental Policy Foundation, and Federal Register Liaison Officer.

[FR Doc. E8-6109 Filed 3-26-08; 8:45 am]

BILLING CODE 6820-FN-M